ENVIRONMENTAL PROTECTION AGENCY

40 CFR Part 82

[EPA-HQ-OAR-2015-0453; FRL-9940-31-OAR]

RIN 2060-AS51

Protection of Stratospheric Ozone: Update to the Refrigerant Management Requirements Under the Clean Air Act; Extension of Comment Period

AGENCY: Environmental Protection Agency (EPA).

ACTION: Proposed rule; extension of comment period.

SUMMARY: EPA issued a proposed rule in the Federal Register on November 9, 2015, proposing to update service practices that reduce emissions of ozone-depleting refrigerants as well as extend them, as appropriate, to non-ozone-depleting substitute refrigerants. The November 9, 2015, proposal provided for a 60-day public comment period ending January 8, 2016. EPA received requests from the public to extend this comment period. This document extends the comment period for 17 days, from January 8, 2016, to January 25, 2016.

DATES: Comments, identified by docket identification (ID) number EPA-HQ-OAR-2015-0453, must be received on or before January 25, 2016.

ADDRESSES: Follow the detailed instructions as provided under ADDRESSES in the Federal Register document of November 9, 2015.

FOR FURTHER INFORMATION CONTACT: Luke Hall-Jordan, Stratospheric Protection Division, Office of Atmospheric Programs, Mail Code 6205T, 1200 Pennsylvania Avenue NW., Washington, DC 20460; telephone number (202) 343-9591; email address hall-jordan.luke@epa.gov.

SUPPLEMENTARY INFORMATION: This document extends the public comment period established in the proposed rule published in the Federal Register on November 9, 2015 (80 FR 69457) (FRL-9933-48-OAR). In that document, EPA solicited comments and information on its proposed rule titled “Protection of Stratospheric Ozone: Update to the Refrigerant Management Requirements under the Clean Air Act.” EPA received requests from members of the public to extend the comment period. EPA is hereby extending the comment period, which was previously set to end on January 8, 2016, to January 25, 2016. Accordingly, any comments on this proposed rule must be received on or before January 25, 2016.

To submit comments, or access the public docket, please follow the detailed instructions as provided under ADDRESSES in the November 9, 2015, Federal Register document. If you have questions, consult the person listed under FOR FURTHER INFORMATION CONTACT.

List of Subjects in 40 CFR Part 82

Environmental protection, Air pollution control, Chemicals, Incorporation by reference, Reporting and recordkeeping requirements.

Dated: December 10, 2015.
Sarah Dunham,
Director, Office of Atmospheric Programs.

[FR Doc. 2015-31661 Filed 12-16-15; 8:45 am]

BILLING CODE 6560-50-P